ENVIRONMENTAL PROTECTION AGENCY

40 CFR Part 60

[EPA-HQ-OAR-2006-0497; FRL-8243-2]

RIN 2060-AN96

Standards of Performance for Industrial-Commercial-Institutional Steam Generating Units

AGENCY: Environmental Protection Agency (EPA).

ACTION: Direct final rule.

SUMMARY: New source performance standards (NSPS) limiting emissions of, among other pollutants, nitrogen oxides (NOX) from industrial-commercial-institutional steam generating units capable of combusting more than 100 million British thermal units (Btu) per hour were promulgated on November 25, 1986. The standards limit NOX emissions from the combustion of fossil fuels either solely or in combination with other fuels or wastes. The standards include provisions for the establishment of facility-specific NOX standards for steam generating units which simultaneously combust fossil fuel and chemical byproduct/waste under certain conditions. This amendment promulgates a facility-specific NOX standard for a steam generating unit which simultaneously combusts fossil fuel and chemical byproduct offgas at the Innovene USA LLC facility located in Lima, Ohio.

DATES: This direct final rule will be effective on January 16, 2007 without further notice, unless EPA receives material adverse comments by December 18, 2006, unless a hearing is requested by November 27, 2006. If a timely hearing request is submitted, the hearing will be held on December 1, 2006 and we must receive written comments on or before January 2, 2007. If EPA receives such comments, it will publish a timely withdrawal in the Federal Register indicating the amendment is being withdrawn due to adverse comments.

ADDRESSES: Submit your comments, identified by Docket ID No. EPA-HQ-OAR-2006-0497, by one of the following methods:

• http://www.regulations.gov. Follow the on-line instructions for submitting comments.

• E-mail: a-and-r-docket@epa.gov.

• Fax: (202) 566-1741.

• Mail: Air and Radiation Docket and Information Center, Environmental Protection Agency, Mailcode: 6102T, 1200 Pennsylvania Avenue, NW., Washington, DC 20460. Please include a total of two copies.

• Hand Delivery: Air and Radiation Docket and Information Center, U.S. EPA, 1301 Constitution Avenue, NW., Room B102, Washington, DC. Such deliveries are only accepted during the Docket's normal hours of operation, and special arrangements should be made for deliveries of boxed information.

We request that a separate copy also be sent to the contact person listed below (see FOR FURTHER INFORMATION CONTACT).

Instructions: Direct your comments to Docket ID No. EPA-HQ-OAR-2006-0497. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

Note: The EPA Docket Center suffered damage due to flooding during the last week of June 2006. The Docket Center is continuing to operate. However, during the cleanup, there will be temporary changes to Docket Center telephone numbers, addresses, and hours of operation for people who wish to visit the Public Reading Room to view documents. Consult EPA's Federal Register notice at 71 FR 38147 (July 5, 2006) or the EPA Web site at http://www.epa.gov/epahome/dockets.htm for current information on docket status, locations, and telephone numbers. The Docket Center's mailing address for U.S. mail and the procedure for submitting comments to http://www.regulations.gov are not affected by the flooding and will remain the same.

FOR FURTHER INFORMATION CONTACT: Mr. James A. Eddinger, Energy Strategies Group, Emission Standards Division (D243-01), U.S. Environmental Protection Agency, Research Triangle Park, North Carolina 27711; telephone number (919) 541-5426; facsimile number (919) 541-5450; electronic mail address eddinger.jim@epa.gov.

SUPPLEMENTARY INFORMATION: Regulated Entities. The only regulated entity that will be affected by this direct final rule amendment is the Innovene USA facility located in Lima, Ohio.

Comments. We are publishing this direct final rule without prior proposal because we view it as noncontroversial and do not anticipate adverse comments. However, in the Proposed Rules section of today's Federal Register, we are publishing a separate document that will serve as the proposal in the event that adverse comments are filed. If we receive any adverse comments on a specific element of this direct final rule, we will publish a timely withdrawal in the Federal Register informing the public that the amendment is being withdrawn due to adverse comment. We will address all public comments in a subsequent final rule based on the proposed rule. The amendment in this direct final rule will become effective on the date set out above if we do not receive adverse comment. We will not institute a second comment period on this direct final rule. Any parties interested in commenting must do so at this time.

World Wide Web (WWW). In addition to being available in the docket, electronic copies of this direct final rule will be posted on the Technology Transfer Network's (TTN) policy and guidance information page http://www.epa.gov/ttn/oarpg. The TTN provides information and technology exchange in various areas of air pollution control.

Judicial Review. Under section 307(b)(1) of the Clean Air Act (CAA), judicial review of this direct final rule is available only on the filing of a petition for review in the U.S. Court of Appeals for the District of Columbia Circuit by January 16, 2007. Under section 307(d)(7)(B) of the CAA, only an objection to this direct final rule that was raised with reasonable specificity during the period for public comment can be raised during judicial review. Moreover, under section 307(b)(2) of the CAA, the requirements that are subject to this action may not be challenged later in civil or criminal proceedings brought by EPA to enforce these requirements.

Organization of This Document. The following outline is provided to aid in locating information in this preamble.

I. Background

II. What Is EPA Finalizing Under This Action?

III. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer and Advancement Act

J. Congressional Review Act

I. Background

The objective of the NSPS, promulgated on November 25, 1986, is to limit NOX emissions from the combustion of fossil fuel. For steam generating units combusting byproduct/waste, the requirements of the NSPS vary depending on the mode of operation of the steam generating units. During periods when only fossil fuel is combusted, the steam generating unit must comply with the NOX emission limits in the NSPS for fossil fuel. During periods when only byproduct/waste is combusted, the steam generating unit may be subject to other requirements or regulations which limit NOX emissions, but it is not subject to NOX emission limits under the NSPS. In addition, if the steam generating unit is subject to federally enforceable permit conditions limiting the amount of fossil fuel combusted in the steam generating unit to an annual capacity factor of 10 percent or less, the steam generating unit is not subject to NOX emission limits under the NSPS when it simultaneously combusts fossil fuel and byproduct/waste.

With the exception noted above, during periods when fossil fuel and byproduct/waste are simultaneously combusted in a steam generating unit, the unit must generally comply with NOX emission limits under 40 CFR 60.44b(e) of the NSPS. Under 40 CFR 60.44b(e) the applicable NOX emission limit depends on the nature of the byproduct/waste combusted. In some situations, however, “facility-specific” NOX emission limits developed under 40 CFR 60.44b(f) may apply. The order for determining which NOX emission limit applies is as follows. A steam generating unit simultaneously combusting fossil fuel and byproduct/waste is expected to comply with the NOX emission limit under 40 CFR 60.44b(e); only in a few situations may NOX emission limits developed under 40 CFR 60.44b(f) apply. An equation in 40 CFR 60.44b(e) is included to determine the NOX emission limit applicable to a steam generating unit when it simultaneously combusts fossil fuel and byproduct/ waste.

Only where a steam generating unit which simultaneously combusts fossil fuel and byproduct/waste is unable to comply with the NOX emission limit determined under 40 CFR 60.44b(e), might a facility-specific NOX emission limit under 40 CFR 60.44b(f) apply. That section permits a steam generating unit to petition the Administrator for a facility-specific NOX emission limit. A facility-specific NOX emission limit will be proposed and promulgated by the Administrator for the steam generating unit only where the petition is judged to be complete. To be considered complete, a petition for a facility-specific NOX standard under 40 CFR 60.44b(f) consists of three components. To satisfy the first component, the steam generating unit must demonstrate compliance with the NOX emission limit when combusting fossil fuel alone. This provision ensures that the steam generating unit has installed best demonstrated NOX control technology, identified the NOX control technology, and identified the manner in which this technology is operated to achieve compliance with the NOX emission limit for fossil fuel.

To satisfy the second component, the steam generating unit must demonstrate that the NOX control technology does not comply with the NOX emission limit when the unit simultaneously combusts fossil fuel and chemical byproduct/ waste. The unit must demonstrate this non-compliance under the same operating conditions used to demonstrate compliance with fossil fuel alone. In addition, the steam generating unit must identify what unique and specific properties of the chemical byproduct/waste are responsible for preventing compliance with the NOX emission limit for fossil fuel. Byproduct/waste is defined in subpart Db as being a liquid or gaseous substance.

Thirdly, the steam generating unit must provide data and/or analyses to support a facility-specific NOX standard that represents the emissions while simultaneously combusting fossil fuel and chemical byproduct/waste. The unit must perform these analyses while operating the NOX control technology under the same conditions used to demonstrate compliance with the NOX emission limit for fossil fuel, if only fossil fuel were combusted. In addition to identifying the NOX emission limit, the unit must identify appropriate testing, monitoring, reporting and recordkeeping procedures to ensure proper operation of the NOX control technology and minimize NOX emissions at all times.

Upon receipt of a complete petition, the Administrator will propose a facility-specific NOX standard for the steam generating applicable during those times when it simultaneously combusts chemical byproduct/waste with fossil fuel. The NOX standard will include the NOX emission limit(s) and/or operating parameter limit(s) to ensure proper operation of the NOX control technology at all times, as well as appropriate testing, monitoring, reporting and recordkeeping requirements.

Innovene USA LLC has submitted a petition requesting that EPA adopt a facility-specific NOX standard for the absorber offgas incinerator (AOGI) at its acrylonitrile production process facility in Lima, Ohio. The AOGI contains a steam generating heat recovery section which qualifies the AOGI as a steam generating unit subject to NSPS subpart Db. The AOGI combusts natural gas to incinerate the offgas from the reactor and absorber section of the acrylonitrile production process. The AOGI was installed to destroy the volatile organic compounds and hazardous air pollutants (HAP) in the vent stream generated by the acrylonitrile manufacturing process. While the AOGI is designed to comply with Subpart Db while firing natural gas, the combustion of the offgas with natural gas in the AOGI results in a NOX emission rate in excess of the NSPS limit.

II. What Is EPA Finalizing Under This Action?

Based on a review of the Innovene USA's petition for an alternative NOX standard, EPA's Office of Air Quality Planning and Standards has determined the petition to be complete and an alternative facility-specific standard to be appropriate. This determination is appropriate because the AOGI is designed to minimize the formation of NOX from the combustion of the fuel as well as the formation of NOX generated by the nitrogen bound organic compounds in the offgas. The alternative NOX standard is based on analysis of NOX emissions continuously monitored during operation of the AOGI while burning the offgas. An alternative NOX standard of 1.5 pounds per million Btu heat input is provided in the final rule amendment. EPA also indicates reporting and recordkeeping requirements for the owner or operator of the AOGI.

III. Statutory and Executive Order Reviews

A. Executive Order 12866: Regulatory Planning and Review

This action is not a “significant regulatory action” under the terms of Executive Order 12866 (58 FR 51735, October 4, 1993) and is therefore not subject to review under the Executive Order.

B. Paperwork Reduction Act

This action imposes no new information collection requirements on the industry. Because there is no additional burden on the industry as a result of this action, the information collection requests have not been revised. However, the Office of Management and Budget (OMB) has previously approved the information collection requirements contained in the existing regulations 40 CFR Part 60, Subpart Db under the provisions of the Paperwork Reduction Act, 44 U.S.C. 3501 et seq. and has assigned OMB control number 2060-0072, EPA ICR number 1088.10. A copy of the OMB approved Information Collection Request (ICR) may be obtained from Susan Auby, Collection Strategies Division; U.S. Environmental Protection Agency (2822T); 1200 Pennsylvania Ave., NW., Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information unless it displays a currently valid OMB control number. The OMB control numbers for our regulations are listed in 40 CFR part 9 and 40 CFR chapter 15.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of the direct final rule on small entities, small entity is defined as: (1) A small business whose parent company has fewer than 100 or 1,000 employees, or fewer than 4 billion kilowatt-hr per year of electricity usage, depending on the size definition for the affected North American Industry Classification System code; (2) a small governmental jurisdiction that is a government of a city, county, town, school district or special district with a population of less than 50,000; and (3) a small organization that is any not-for-profit enterprise that is independently owned and operated and is not dominant in its field.

After considering the economic impacts of the direct final rule on small entities, we certify that this action will not have a significant economic impact on a substantial number of small entities. This direct final rule will not impose any requirements on small entities because it does not impose any additional regulatory requirements.

D. Unfunded Mandates Reform Act

Title II of the Unfunded Mandates Reform Act of 1995 (UMRA), Public Law 104-4, establishes requirements for Federal agencies to assess the effects of their regulatory actions on State, local and tribal governments and the private sector. Under section 202 of the UMRA, EPA generally must prepare a written statement, including a cost-benefit analysis, for proposed and final rules with “Federal mandates” that may result in expenditures by State, local, and tribal governments, in the aggregate, or by the private sector, of $100 million or more in any 1 year. Before promulgating an EPA rule for which a written statement is needed, section 205 of the UMRA generally requires EPA to identify and consider a reasonable number of regulatory alternatives and adopt the least costly, most cost effective, or least burdensome alternative that achieves the objective of the rule. The provisions of section 205 do not apply when they are inconsistent with applicable law. Moreover, section 205 allows EPA to adopt an alternative other than the least costly, most cost effective, or least burdensome alternative if the Administrator publishes with this final rule an explanation why that alternative was not adopted. Before EPA establishes any regulatory requirements that may significantly or uniquely affect small governments, including tribal governments, it must have developed, under section 203 of the UMRA, a small government agency plan. The plan must provide for notifying potentially affected small governments, enabling officials of affected small governments to have meaningful and timely input in the development of our regulatory proposals with significant Federal intergovernmental mandates, and informing, educating, and advising small governments on compliance with the regulatory requirements.

EPA has determined that this direct final rule amendment does not contain a Federal mandate that may result in expenditures of $100 million or more for State, local, and tribal governments, in the aggregate, or the private sector in any 1 year, nor does this direct final rule significantly or uniquely impact small governments, because it contains no requirements that apply to such governments or impose obligations upon them. Thus, the requirements of sections 202 and 205 of the UMRA do not apply to the direct final rule.

E. Executive Order 13132: Federalism

Executive Order 13132 (64 FR 43255, August 10, 1999) requires us to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

This direct final rule does not have federalism implications. It will not have new substantial direct effects on the States, on the relationship between the national government and the States, or on the distribution of power and responsibilities among the various levels of government, as specified in Executive Order 13132. This action codifies a facility-specific NOX standard. There are minimal, if any, impacts associated with this action. Thus, Executive Order 13132 does not apply to the direct final rule.

F. Executive Order 13175: Consultation and Coordination With Indian Tribal Governments

Executive Order 13175 (65 FR 67249, November 6, 2000) requires EPA to develop an accountable process to ensure “meaningful and timely input by tribal officials in the development of regulatory policies that have tribal implications.”

This direct final rule does not have tribal implications. It will not have substantial direct effects on tribal governments, on the relationship between the Federal government and Indian tribes, or on the distribution of power and responsibilities between the Federal government and Indian tribes, as specified in Executive Order 13175. Thus, Executive Order 13175 does not apply to the direct final rule.

G. Executive Order 13045: Protection of Children From Environmental Health and Safety Risks

Executive Order 13045 (62 FR 19885, April 23, 1997) applies to any rule that: (1) Is determined to be “economically significant” as defined under Executive Order 12866, and (2) concerns an environmental health or safety risk that we have reason to believe may have a disproportionate effect on children. If the regulatory action meets both criteria, we must evaluate the environmental health or safety effects of the planned rule on children, and explain why the planned regulation is preferable to other potentially effective and reasonably feasible alternatives we considered.

We interpret Executive Order 13045 as applying only to those regulatory actions that are based on health or safety risks, such that the analysis required under section 5-501 of the Executive Order has the potential to influence the regulation. This direct final rule is not subject to Executive Order 13045 because it is based on technology performance and not on health or safety risks.

H. Executive Order 13211: Actions Concerning Regulations That Significantly Affect Energy Supply, Distribution, or Use

This direct final rule is not subject to Executive Order 13211 (66 FR 28355, May 22, 2001) because it is not a significant regulatory action under Executive Order 12866.

I. National Technology Transfer and Advancement Act

Section 12(d) of the National Technology Transfer and Advancement Act (NTTAA) of 1995 (Public Law 104-113; 15 U.S.C. 272 note) directs EPA to use voluntary consensus standards in our regulatory and procurement activities unless to do so would be inconsistent with applicable law or otherwise impractical. Voluntary consensus standards are technical standards (e.g., materials specifications, test methods, sampling procedures, business practices) developed or adopted by one or more voluntary consensus bodies. The NTTAA directs EPA to provide Congress, through annual reports to OMB, with explanations when an agency does not use available and applicable voluntary consensus standards.

These direct final rule amendments do not involve technical standards. Therefore, this direct final rule is not subject to NTTAA.

J. Congressional Review Act

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. EPA will submit a report containing this direct final rule and other required information to the U.S. Senate, the U.S. House of Representatives, and the Comptroller General of the United States prior to publication of this direct final rule in the Federal Register. A major rule cannot take effect until 60 days after it is published in the Federal Register. This direct final rule is not a “major rule” as defined by 5 U.S.C. section 804(2). The direct final rule amendments are effective on January 16, 2007.

List of Subjects in 40 CFR Part 60

Environmental protection, Administrative practice and procedures, Air pollution control, Intergovernmental relations, Reporting and recordkeeping requirements.

Dated: November 9, 2006.
Stephen L. Johnson,
Administrator.

For the reasons stated in the preamble, title 40, chapter I, part 60 of the Code of Federal Regulations is amended to read as follows:

PART 60—[AMENDED]

1. The authority citation for part 60 continues to read as follows:

Authority: 42 U.S.C. 7401 et seq.

Subpart Db—[Amended]

2. Section 60.49b is amended by adding paragraph (y) to read as follows:

§ 60.49b Reporting and recordkeeping requirements.

* * * * *

(y) Facility-specific nitrogen oxides standard for Innovene USA's AOGI located in Lima, Ohio:

(1) Standard for nitrogen oxides. (i) When fossil fuel alone is combusted, the nitrogen oxides emission limit for fossil fuel in § 60.44b(a) applies.

(ii) When fossil fuel and chemical byproduct/waste are simultaneously combusted, the nitrogen oxides emission limit is 645 ng/J (1.5 lb/million Btu).

(2) Emission monitoring for nitrogen oxides. (i) The nitrogen oxides emissions shall be determined by the compliance and performance test methods and procedures for nitrogen oxides in § 60.46b.

(ii) The monitoring of the nitrogen oxides emissions shall be performed in accordance with § 60.48b.

(3) Reporting and recordkeeping requirements. (i) The owner or operator of the AOGI shall submit a report on any excursions from the limits required by paragraph (x)(2) of this section to the Administrator with the quarterly report required by paragraph (i) of this section.

(ii) The owner or operator of the AOGI shall keep records of the monitoring required by paragraph (x)(3) of this section for a period of 2 years following the date of such record.

(iii) The owner or operator of the AOGI shall perform all the applicable reporting and recordkeeping requirements of this section.

[FR Doc. E6-19386 Filed 11-15-06; 8:45 am]

BILLING CODE 6560-50-P